DEPARTMENT OF HEALTH AND HUMAN SERVICES

National Institutes of Health

Center for Scientific Review; Amended Notice of Meeting

Notice is hereby given of a change in the meeting of the Center for Scientific Review Special Emphasis Panel, March 29, 2022, 1:00 p.m. to 6:00 p.m., National Institutes of Health, Rockledge II, 6701 Rockledge Drive, Bethesda, MD 20892, which was published in the Federal Register on March 04, 2022, V 87 #43 Page 12467, FR Doc No. 2022-04619.

Meeting is being amended to change the Contact Person from Ai-Ping Zou to David Jollie, Ph.D., Scientific Review Officer, Center for Scientific Review, National Institutes of Health. The meeting is closed to the public.

Dated: March 16, 2022.
David W. Freeman,
Program Analyst, Office of Federal Advisory Committee Policy.

[FR Doc. 2022-05896 Filed 3-18-22; 8:45 am]

BILLING CODE 4140-01-P